DEPARTMENT OF AGRICULTURE

Agricultural Marketing Service

[Doc. No. AMS-DA-21-0071]

Notice of Request for Extension and Revision of a Currently Approved Information Collection

AGENCY: Agricultural Marketing Service, USDA.

ACTION: Notice and request for comments.

SUMMARY: In accordance with the Paperwork Reduction Act of 1995 (44 U.S.C. chapter 35), this notice announces the Agricultural Marketing Service's (AMS) intention to request approval from the Office of Management and Budget for an extension of and revision to the currently approved information collection, “Requirements Under Regulations Governing Inspection and Grading Services of Manufactured or Processed Dairy Products.”

DATES: Comments on this notice must be received by October 29, 2021 to be assured of consideration.

ADDRESSES: Interested persons are invited to submit comments concerning this notice by using the electronic process available at www.regulations gov. All comments received will be posted without change, including any personal information provided, at www.regulations.gov and will be included in the record and made available to the public.

FOR FURTHER INFORMATION CONTACT: Michael Eichorst, USDA AMS Dairy Program, 650 East Diehl Rd., Suite 100, Naperville, IL 60563; Tel: (630) 437-5045; Fax: (630) 437-5060.

SUPPLEMENTARY INFORMATION:

Title: Requirements Under Regulations Governing Inspection and Grading Services of Manufactured or Processed Dairy Products.

OMB Number: 0581-0126.

Expiration Date of Approval: November 30, 2021.

Type of Request: Extension and revision of a currently approved information collection.

Abstract: The Agricultural Marketing Act (AMA) of 1946 (7 U.S.C. 1621 et seq.) directs the United Stated Department of Agriculture (USDA) to develop programs that provide for and facilitate the marketing of agricultural products. One of these programs is the USDA voluntary inspection and grading program for dairy products with regulations contained in 7 CFR part 58. Regulations governing the certification of sanitary design and fabrication of equipment used in the slaughter, processing, and packaging of livestock and poultry products are contained in 7 CFR part 54. To ensure a voluntary inspection program performs satisfactorily, there must be written requirements and rules for both Government and industry. The information requested is used to identify products offered for grading; to identify a request from a manufacturer of equipment used in dairy, meat, or poultry industries for evaluation regarding sanitary design and construction; to identify and contact the party responsible for payment of the inspection, grading or equipment evaluation fee and expense; and to identify applicants who wish to be authorized for the display of official identification on product packaging, materials, equipment, utensils, or on descriptive promotional materials.

Estimate of Burden: Public reporting burden for this collection of information is estimated to average 0.170 hours per response.

Respondents: Dairy product manufacturers, consultants, installers, dairy equipment fabricators, and meat and poultry processing equipment fabricators.

Estimated Number of Respondents: 307.

Estimated Total Annual Responses: 11,389.

Estimated Number of Responses per Respondent: 37.22.

Estimated Total Annual Burden on Respondents: 1,027 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Erin Morris,
Associate Administrator, Agricultural Marketing Service.

[FR Doc. 2021-18605 Filed 8-27-21; 8:45 am]

BILLING CODE P